DEPARTMENT OF STATE

[Public Notice 7787]

Privacy Act; System of Records: State-59, Refugee Case Records

SUMMARY: Notice is hereby given that the Department of State proposes to consolidate two existing systems of records, Refugee Case Records, State-59 and Refugee Processing Center Records, State-60, pursuant to the provisions of the Privacy Act of 1974, as amended (5 U.S.C. 552a) and Office of Management and Budget Circular No. A-130, Appendix I. The consolidated system will be titled State-59, Refugee Case Records.

DATES: This system of records will be effective on March 19, 2012 unless we receive comments that will result in a contrary determination.

ADDRESSES: Any persons interested in commenting on the amended system of records may do so by writing to the Senior Advisor for Privacy Policy, A/GIS; Department of State, SA-2; 515 22nd Street NW., Washington, DC 20522-8001.

FOR FURTHER INFORMATION CONTACT: Senior Advisor for Privacy Policy, A/GIS; Department of State, SA-2; 515 22nd Street NW., Washington, DC 20522-8001.

SUPPLEMENTARY INFORMATION: The Department of State proposes that the proposed system retain the name “Refugee Case Records.” In accordance with the Privacy Act of 1974, the Department of State proposes to consolidate two record systems: State-59, Refugee Case Records (72 FR 45081) and State-60, Refugee Processing Center Records (72 FR 45084) into one system of records. State-60, Refugee Processing Center Records will be removed from the Department of State's inventory of record systems. The proposed system will include revisions to the following sections: Categories of Records, Purpose, Safeguards, Retrievability, and other administrative updates.

The Department's report was filed with the Office of Management and Budget. The amended system description, “Refugee Case Records, State-59,” will read as set forth below.

Dated: January 23, 2012.
Joyce A. Barr,
Assistant Secretary for Administration, U.S. Department of State.

STATE-59

SYSTEM NAME:

Refugee Case Records.

SECURITY CLASSIFICATION:

Unclassified.

SYSTEM LOCATION:

(1) Refugee processing sites, such as designated U.S. embassies, consulates and/or offices of Resettlement Support Centers (agencies under cooperative agreement with the Department of State that assist in the processing of refugee applicants); and

(2) The Refugee Processing Center, 1401 Wilson Blvd., Arlington, VA 22209.

The Department of State may change processing locations as needed. A list of refugee processing sites is available from the Office of Admissions, Bureau of Population, Refugees, and Migration, SA-9, 8th floor, Department of State, 2505 E Street NW., Washington, DC 20520.

CATEGORIES OF INDIVIDUALS COVERED BY THE SYSTEM:

Individuals who have applied for admission to the United States under the U.S. Refugee Admissions Program; individuals in the United States who claim a relationship with certain family members overseas in order to establish their qualifications for applying for refugee admission to the United States family members of the individuals in the United States; and certain Special Immigrant Visa (SIV) applicants who wish to access resettlement benefits in the United States.

CATEGORIES OF RECORDS IN THE SYSTEM:

Refugee or refugee-following-to-join (Visa-93) applications and supporting documentation, including required biographic, biometric (including, with respect to some individuals covered by the system, the results of DNA relationship testing), medical, security, and sponsorship information, as well as correspondence related to individual refugees including Affidavits of Relationship (AOR) submitted by relatives in the United States. Similar information is included for Afghan and Iraqi Special Immigrant Visa applicants that have elected to receive resettlement benefits.

Overseas, records include both hard copy case files and electronic records in the Worldwide Refugee Admissions Processing System (WRAPS). The case record is entered or scanned by Resettlement Support Centers under cooperative agreement with the Department of State. WRAPS includes electronic information on individual applicants for admission to the United States as refugees, SIVs electing resettlement benefits, and U.S. based relatives.

The categories of records maintained by the Refugee Processing Center (RPC) are primarily the electronic master records of overseas refugee applications in the WRAPS; data input records related to processing steps performed by the RPC; periodic and ad hoc statistical and case status reports related to refugee processing; and system audit reports.

Records categories entered by the Refugee Processing Center include Affidavits of Relationship; series of alien numbers transferred by the Department of Homeland Security U.S. Citizenship and Immigration Services (USCIS); electronic files with biographic data of refugees referred by the United Nations High Commissioner for Refugees (UNHCR); electronic files from the International Organization for Migration (IOM) with travel and arrival information; results of DNA relationship testing between anchor relatives in the United States and family members overseas to determine if they are qualified to apply for admission as refugees based on their familial relationship; security clearances from various U.S. Government agencies; and electronic files from resettlement agencies with sponsorship assurance and post-arrival information such as address, provision of services, English as a Second Language enrollment, employment, and Social Security numbers.

AUTHORITY FOR MAINTENANCE OF THE SYSTEM:

8 U.S.C. 1522(b) (Authorization for Programs for Initial Domestic Resettlement of and Assistance to Refugees); 8 U.S.C. 1157 (Annual Admission of Refugees and Admission of Emergency Situation Refugees); Letter of President Carter of January 13, 1981, 17 Weekly Compilation of Presidential Documents, Pg. 2880 (Refugee Resettlement Grants Program); Refugee Crisis in Iraq Act of 2007, Public Law 110-181; Afghan Allies Protection Act of 2009, Public Law 111-8.

PURPOSE(S):

Records in this system support the Bureau of Population, Refugees, and Migration in tracking and managing case processing of applicants for the U.S. Refugee Admissions Program from application through the initial reception and placement period in the United States of those individuals approved for resettlement. This system is used for conducting security clearance checks on refugee applicants, verifying employment information, and matching up refugees with domestic resettlement agencies in the United States.

ROUTINE USES OF RECORDS MAINTAINED IN THE SYSTEM, INCLUDING CATEGORIES OF USERS AND PURPOSES OF SUCH USES:

These records may routinely be disclosed:

(1) To the Department of Homeland Security to determine the eligibility and admissibility of individuals applying for admission to the United States as refugees or any other immigration benefit under U.S. law.

(2) To the International Organization for Migration (IOM) to perform required medical examinations and arrange appropriate transportation to the United States, including departure and transit formalities.

(3) To the United Nations High Commissioner for Refugees (UNHCR) to coordinate resettlement and protection activities.

(4) To members of Congress or other Federal, State, and local government agencies having statutory or other lawful authority, as needed for the formulation, amendment, administration or enforcement of immigration, nationality, and other laws of the United States.

(5) To resettlement agencies to ensure appropriate placement in the United States.

(6) To state refugee coordinators, health officials, and interested community organizations for statistical and demographic purposes.

(7) To consumer reporting agencies (31 U.S.C. 3711), debt collection contractors (31 U.S.C. 3718) and the Department of the Treasury (31 U.S.C. 3716) to assist in the collection of indebtedness reassigned to the U.S. Government under the refugee travel loan program administered by the International Organization for Migration (IOM).

The Department of State periodically publishes in the Federal Register its standard routine uses that apply to all of its Privacy Act systems of records. These notices appear in the form of a Prefatory Statement. These standard routine uses apply to the Refugee Case Records, State-59.

POLICIES AND PRACTICES FOR STORING, RETRIEVING, ACCESSING, RETAINING, AND DISPOSING OF RECORDS IN THE SYSTEM:

STORAGE:

Electronic media and hard copy.

RETRIEVABILITY:

Individual name, case number, alien number, and sponsor name.

SAFEGUARDS:

WRAPS users at the Refugee Processing Center (RPC) are given cyber security awareness training by the contractor which covers the procedures for handling Sensitive but Unclassified information, including personally identifiable information. Annual refresher training is mandatory. All RPC employees are subject to a thorough background security investigation.

At the Resettlement Support Centers (RSC) overseas, all paper records containing personal information are maintained in secured file cabinets in restricted areas, access to which is limited to authorized personnel only. RSC staff are briefed on the confidentiality of refugee data and instructed regarding proper handling procedures. Access to computerized files is password-protected and under the direct supervision of the system manager. Centralized electronic storage and retrieval assist operational managers at headquarters and overseas to identify and resolve processing delays, plan accurately for refugee arrivals, improve program analysis, and preserve overseas records in case of evacuation or disasters in overseas processing locations. The system manager has the capability of printing audit trails of access from the computer media, thereby permitting regular and ad hoc monitoring of computer usage.

When it is determined that a user no longer needs access, the user account is disabled.

RETENTION AND DISPOSAL:

Records are retired or destroyed in accordance with the published records schedules of the Department of State as approved by the National Archives and Records Administration. If individuals have been assigned alien numbers, their hard copy files are transferred to USCIS and subject to its disposition schedules. Electronic records at the RSC will be retained for five years after the last action has been taken on the case. At the RPC, WRAPS records are maintained offline for an additional 10 years, and then deleted when 15 years old. Statistical data are kept indefinitely.

Hard copies of the results of the DNA relationship testing between individuals in the United States and family members overseas applying for admission based on their familial relationship will be destroyed immediately after relevant information is entered into Worldwide Refugee Admissions Processing System database by RPC staff.

More specific information may be obtained by writing to the Director, Office of Information Programs and Services, SA-2, Department of State, 515 22nd Street NW., Washington, DC 20522-8001.

SYSTEM MANAGER AND ADDRESS:

Director; Office of Admissions Bureau of Population, Refugees, and Migration, SA-9, 8th floor, Department of State, 2025 E Street NW., Washington, DC 20522.

NOTIFICATION PROCEDURE:

Individuals who have reason to believe that the Office of Admissions, Bureau of Population, Refugees, and Migration might have records pertaining to themselves should write to the Director, Office of Information Programs and Services, SA-2, Department of State, 515 22nd Street NW., Washington, DC 20522-8001. The individual must specify that he or she wishes the Refugee Processing Center Records of a specific processing location to be checked. At a minimum, the individual should include: Name (and any aliases): date and place of birth; the approximate date of arrival in the United States; his or her immigration Alien number; current mailing address and zip code; and signature.

RECORD ACCESS AND AMENDMENT PROCEDURES:

Individuals who wish to gain access to or amend records pertaining to themselves should write to the Director; Office of Information Programs and Services (address above).

RECORD SOURCE CATEGORIES:

These records contain information obtained primarily from the individual who is the subject of these records, relatives, sponsors, members of Congress, U.S. Government agencies, Resettlement Support Centers, the Refugee Processing Center, resettlement agencies, international organizations, and local sources at overseas sites.

SYSTEMS EXEMPTED FROM CERTAIN PROVISIONS OF THE ACT:

Pursuant to 5 U.S.C. 552a (k)(1), records in this system may be exempted from subsections (c)(3), (d), (e)(1), (e)(4)(G), (H), and (I), and (f) of the Privacy Act. See 22 CFR 171.36 for more information.

[FR Doc. 2012-2626 Filed 2-3-12; 8:45 am]

BILLING CODE 4710-24-P